Title 3—

The President

Proclamation 8498 of April 16, 2010

National Park Week, 2010

By the President of the United States of America

A Proclamation

As a Nation, we have a responsibility to protect America’s natural resources and noteworthy landmarks. During National Park Week, we celebrate the diversity, beauty, and history found in our National Park System.

For nearly 100 years, the American people have entrusted the National Park Service (NPS) to care for the places that fuel our spirit and define our character. By safeguarding our Nation’s historical parks, sites, and monuments, NPS in turn preserves our rich culture and heritage. From the first glimpses of hope at the Statue of Liberty to the harrowing Battle of Gettysburg and the quest for freedom on the Underground Railroad, countless American stories are enshrined in these sites. By visiting them, we can reflect on our shared history and vision for the future.

Our National Park System also includes millions of acres that support educational and recreational opportunities for all Americans. Every day, NPS employees and volunteers dedicate their time and energy to upholding the beauty and integrity of these lands for future generations. Only by conserving our natural treasures—from the verdant forests of the Great Smoky Mountains to the geysers of Yellowstone and the granite walls of Yosemite—can we share their wonder with our children and grandchildren.

Our national parks provide safe and affordable opportunities for families and communities to reconnect with nature and have fun together. Our Nation’s historical parks, sites, and monuments also enhance quality of life and bolster community vitality in many of America’s urban areas. In the spirit of Let’s Move, the First Lady’s nationwide campaign to tackle childhood obesity, I encourage all Americans to visit our national parks and take part in outdoor activities.

While most national parks are free throughout the year, none will charge admission during National Park Week, ensuring these treasures are open and accessible to all. As we acknowledge the wealth of our National Park System, let us also recommit to responsible stewardship that will sustain our parks for generations to come.

NOW, THEREFORE, I, BARACK OBAMA, President of the United States of America, by virtue of the authority vested in me by the Constitution and the laws of the United States, do hereby proclaim April 17 through April 25, 2010, as National Park Week. I encourage all Americans to visit their national parks and be reminded of these unique blessings that we share as a Nation.

IN WITNESS WHEREOF, I have hereunto set my hand this sixteenth day of April, in the year of our Lord two thousand ten, and of the Independence of the United States of America the two hundred and thirty-fourth.

[FR Doc. 2010-9413

Filed 4-20-10; 11:15 am]

Billing code 3195-W0-P